DEPARTMENT OF JUSTICE

Notice of Lodging of Proposed Consent Decree Under the Comprehensive Environmental Response, Compensation, and Liability Act

On April 15, 2016, the Department of Justice lodged a proposed Consent Decree with the United States District Court for the District of South Dakota, Western Division in the lawsuit entitled United States and State of South Dakota v. CoCa Mines, Inc. and Thomas E. Congdon, Civil Action No. 5:16-cv-05022-JLV.

This case was brought under Sections 107(a) and 113(g)(2) of the Comprehensive Environmental Response, Compensation, and Liability Act (“CERCLA”), 42 U.S.C. 9607(a) and 9613(g)(2), for the recovery of response costs related to the cleanup at the Gilt Edge Mine Site (“Site”) in Lawrence County, South Dakota.

The United States and the State of South Dakota filed a Complaint in this case on April 14, 2016 alleging that the Defendants are jointly and severally liable for response costs related to the cleanup at the Site. 42 U.S.C. 9607(a) and 9613(g)(2). The Complaint requests recovery of costs that the United States and the State incurred responding to releases of hazardous substances at the Site near Lead, South Dakota. Both Defendants signed the Consent Decree and will pay a combined $10.3 million in cash, with CoCa Mines paying up to an additional $700,000 in future insurance recovery. The money will be used to help pay for response costs related to the cleanup at the Site. In return, the United States and the State of South Dakota agree not to sue the Defendants under Sections 106 and 107 of CERCLA, 42 U.S.C. 9606 and 9607. The Consent Decree would resolve the claims against the Defendants as described in the Complaint.

The publication of this Notice opens a period for public comment on the Consent Decree. Comments should be addressed to the Assistant Attorney General, Environment and Natural Resources Division, and should refer to United States and State of South Dakota v. CoCa Mines, Inc. and Thomas E. Congdon, D.J. Ref. No. 90-11-3-11179. All comments must be submitted no later than thirty (30) days after the publication date of this Notice. Comments may be submitted either by email or by mail:

To submit comments: | Send them to:
By e-mail | pubcomment-ees.enrd@usdoj.gov.
By mail | Assistant Attorney General, U.S. DOJ—ENRD, P.O. Box 7611, Washington, DC 20044-7611.

During the public comment period, the Consent Decree may be examined and downloaded at this Justice Department Web site: http://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $8.25 (25 cents per page reproduction cost) payable to the United States Treasury.

Jeffrey K. Sands,
Assistant Section Chief, Environmental Enforcement Section, Environment and Natural Resources Division.

[FR Doc. 2016-09565 Filed 4-25-16; 8:45 am]

BILLING CODE 4410-15-P